NUCLEAR REGULATORY COMMISSION

Request To Amend a License To Export Radioactive Waste

Pursuant to 10 CFR 110.70 (b) “Public Notice of Receipt of an Application,” please take notice that the Nuclear Regulatory Commission (NRC) has received the following request for an export license amendment. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.rnc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications

The information concerning this export license amendment application follows.

NRC Export License Amendment Application
[Description of material]
Name of applicant; date of application; date received; application no.; docket No. | Material type | Total quantity | End use | Recipient country
Eastern Technologies, Inc.; December 28, 2012; January 2, 2013; XW016/01; 11005825 | Class A radioactive waste as slightly contaminated secondary waste resulting from the dissolving and decontamination of polyvinyl alcohol (PVA) dissolvable protective clothing and related items (e.g., zippers, hook & loop material, elastic, etc.) along with the process filters used to decontaminate the dissolved clothing retrieved from the Class A radioactive waste imported in accordance with NRC license IW016/02 | The total quantity authorized for export will not exceed quantities imported in accordance with NRC license IW016/02 | Amend to: 1) Remove “Other U.S. Party(ies) to Export,” 2) revise “Description of Materials or Facilities” to remove Impact Services as the U.S. third party waste processing company; and 3) extend the expiration date from December 31, 2012 to December 31, 2015. Following processing at the Eastern Technologies, Inc. (ETI) facility, the secondary waste will either be returned directly to Laguna Verde, or shipped to a licensed third party waste processor for further volume reduction processing and return to ETI for export back to Laguna Verde | Mexico.

For the Nuclear Regulatory Commission.
Dated this 24th day of January 2013 at Rockville, Maryland.
Janice E. Owens,
Acting Director, Office of International Programs.

[FR Doc. 2013-02338 Filed 2-1-13; 8:45 am]

BILLING CODE 7590-01-P